DEPARTMENT OF TRANSPORTATION

Federal Aviation Administration

Public Notice for Waiver of Aeronautical Land-Use Assurance

AGENCY: Federal Aviation Administration (FAA), DOT.

ACTION: Notice of intent of waiver with respect to land; Detroit Metropolitan Wayne County Airport, Detroit, Michigan.

SUMMARY: The FAA is considering a proposal to change 5.593 acres of airport land from aeronautical use to non-aeronautical use and to authorize the sale of airport property located at Detroit Metropolitan Wayne County Airport, Detroit, Michigan. The aforementioned land is not needed for aeronautical use.

DATES: Comments must be received on or before May 1, 2017.

ADDRESSES: Documents are available for review by appointment at the FAA Detroit Airports District Office, Irene R. Porter, Program Manager, 11677 South Wayne Road, Suite 107, Romulus, Michigan 48174. Telephone: (734) 229-2915/Fax: (734) 229-2950 and Wayne County Airport Authority Administrative Offices, 1 LC Smith Building, Detroit, Michigan, Attn. Ms. Wendy Sutton. Telephone: (734) 247-7233.

Written comments on the Sponsor's request must be delivered or mailed to: Irene R. Porter, Program Manager, Federal Aviation Administration, Airports Detroit District Office, 11677 South Wayne Road, Suite 107, Romulus, Michigan 48174, Telephone Number: (734) 229-2915/FAX Number: (734) 229-2950.

FOR FURTHER INFORMATION CONTACT: Irene R. Porter, Program Manager, Federal Aviation Administration, Airports Detroit District Office, 11677 South Wayne Road, Suite 107, Romulus, Michigan 48174, Telephone Number: (734) 229-2915/FAX Number: (734) 229-2950.

SUPPLEMENTARY INFORMATION: In accordance with section 47107(h) of Title 49, United States Code, this notice is required to be published in the Federal Register 30 days before modifying the land-use assurance that requires the property to be used for an aeronautical purpose.

The property is located across a public road and to the northwest of the Detroit Metropolitan Wayne County Airport. It is currently vacant unimproved land that was acquired to support the Vining road relocation necessary for the construction of Runway 4L/22R at the airport. The property proposed for release was acquired by the Wayne County Airport Authority under FAA Grant Numbers: 3-26-0026-1991, 3-26-0026-2292, 3-26-0026-3695, 3-26-0026-4197, and 3-26-0026-4398. There is now a buyer for the entire 25.511 acre parcel on this site. The FAA processed a release for 19.918 acres of this property on September 29, 2006. The Authority is now requesting a release for the remaining 5.593 acres. The land is no longer needed for aeronautical purposes. The proposed non-aeronautical land use would be for compatible commercial/industrial development. The property has been appraised and the airport will receive Fair Market Value for the land to be sold.

The property is currently vacant, unimproved land maintained for compatible land use surrounding the airfield. The proposed non-aeronautical land use would be for compatible commercial/industrial development, allowing the airport to become more self-sustaining. The property has a proposed developer identified and it has been appraised. The airport will receive Fair Market Value for the land to be sold.

The disposition of proceeds from the sale of the airport property will be in accordance with FAA's Policy and Procedures Concerning the Use of Airport Revenue, published in the Federal Register on February 16, 1999 (64 FR 7696).

This notice announces that the FAA is considering the release of the subject airport property at the Detroit Metropolitan Wayne County Airport, Detroit, Michigan, from its obligations to be maintained for aeronautical purposes. Approval does not constitute a commitment by the FAA to financially assist in the change in use of the subject airport property nor a determination of eligibility for grant-in-aid funding from the FAA.

Property Description

PART OF THE SOUTHEAST ¼ SECTION 16, T.3.S.,R.9.E., CITY OF ROMULUS, WAYNE COUNTY, MICHIGAN AND BEING MORE PARTICULARLY DESCRIBED AS FOLLOWS: COMMENCING AT THE SOUTH ¼ CORNER OF SECTION 16, T.3.S., R.9.E., CITY OF ROMULUS, WAYNE COUNTY, MICHIGAN AND RUNNING THENCE NORTH 88 DEGREES 11 MINUTES 10 SECONDS EAST, ALONG THE SOUTH LINE OF SAID SECTION 16, A DISTANCE OF 120.00 FEET TO A POINT; THENCE NORTH 01 DEGREE 50 MINUTES 10 SECONDS WEST A DISTANCE OF 60.00 FEET TO THE POINT OF BEGINNING OF THE PARCEL OF LAND HEREIN BEING DESCRIBED; PROCEEDING THENCE FROM SAID POINT OF BEGINNING NORTH 01 DEGREE 50 MINUTES 10 SECONDS WEST A MEASURED DISTANCE OF 1769.32 FEET (DESCRIBED 1770.05 FEET) TO A POINT ON THE SOUTHERLY LINE OF THE NORFOLK AND SOUTHERN RAILROAD RIGHT-OF-WAY (100 FEET WIDE); THENCE NORTH 71 DEGREES 24 MINUTES 00 SECONDS EAST, ALONG SAID RAILROAD RIGHT-OF-WAY LINE, A DISTANCE OF 146.22 FEET TO A POINT; THENCE SOUTH 01 DEGREE 50 MINUTES 10 SECONDS EAST A MEASURED DISTANCE OF 1655.43 FEET TO A POINT ON THE WESTERLY LINE OF VINING ROAD (120 FEET WIDE); THENCE SOUTH 28 DEGREE 28 MINUTES 47 SECONDS WEST, ALONG SAID WESTERLY LINE OF VINING ROAD, A DISTANCE OF 180.80 FEET TO A POINT; THENCE SOUTH 88 DEGREES 11 MINUTES 10 SECONDS WEST, ALONG A LINE 60.00 FEET NORTH OF, AS MEASURED AT RIGHT ANGLES TO AND PARALLEL WITH THE SOUTH LINE OF SAID SECTION 16, A DISTANCE OF 48.74 FEET TO THE POINT OF BEGINNING. CONTAINING 243,644 SQUARE FEET OR 5.593 ACRES, MORE OR LESS, OF LAND IN AREA. THE ABOVE DESCRIBED PARCEL OF LAND IS SUBJECT TO A RIGHT-OF-WAY TO STANDARD OIL COMPANY AS RECORDED IN LIBER 11705 OF DEEDS ON PAGE 359 WAYNE COUNTY RECORDS AND LIBER 14426 OF DEEDS ON PAGE 762 WAYNE COUNTY RECORDS AND IS SUBJECT TO AN EASEMENT TO THE WOLVERINE PIPE LINE COMPANY AS RECORDED IN LIBER 11798 OF DEEDS ON PAGE 112 WAYNE COUNTY RECORDS AND LIBER 11864 OF DEEDS ON PAGE 442 WAYNE COUNTY RECORDS.

Issued in Romulus, Michigan, on February 3, 2017.
John L. Mayfield, Jr.,
Manager, Detroit Airports District Office, FAA, Great Lakes Region.

[FR Doc. 2017-06292 Filed 3-29-17; 8:45 am]

BILLING CODE 4910-13-P